DEPARTMENT OF JUSTICE

Notice of Lodging of Consent Decree Under the Comprehensive Environmental Response, Compensation and Liability Act

Notice is hereby given that on November 2, 2009, a proposed Consent Decree in United States v. Township of Brick, New Jersey, Civil Action No. 3:09-cv-05592-FLW-TJB, was lodged with the United States District Court for the District of New Jersey.

In this action, the United States seeks, inter alia, injunctive relief and cost recovery with respect to the Brick Township Landfill Superfund Site in Ocean County, New Jersey, under the Comprehensive Environmental Response, Compensation, and Liability Act, 42 U.S.C. 9601, et seq. The complaint in this matter alleges that the Township of Brick was/is the past/current owner and/or operator of the Site, during which time hazardous substances were disposed and released there. The Consent Decree requires the Township of Brick to reimburse the United States all of its past response costs in the amount of $246,833; pay the United States all future response costs; and perform the remedy at the Site, which includes the installation of a solid waste landfill cap and implementation a groundwater monitoring program.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Township of Brick, New Jersey, D.J. Ref. 90-11-3-09738.

During the public comment period, the Consent Decree, may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $ 28.50 (25 cents per page reproduction costs of Consent Decree and Appendices) payable to the U.S. Treasury or, if by e-mail or fax, forward a check in that amount to the Consent Decree Library at the stated address.

Maureen Katz,
Assistant Chief, Environmental Enforcement Section, Environment and Natural Resources Division.

[FR Doc. E9-26973 Filed 11-9-09; 8:45 am]

BILLING CODE 4410-15-P